FEDERAL COMMUNICATIONS COMMISSION

47 CFR Part 64

[CG Docket No. 03-123; FCC 06-106]

Telecommunications Relay Services and Speech-to-Speech Services for Individuals With Hearing and Speech Disabilities

AGENCY: Federal Communications Commission.

ACTION: Proposed rule; correction.

SUMMARY: This document corrects a proposed rule published in the Federal Register of September 13, 2006, regarding Telecommunications Relay Services and Speech-to-Speech Services for Individuals with Hearing and Speech Disabilities. This correction clarifies text that was revised or omitted when previously published in the Federal Register.

DATES: Comments are due on or before October 30, 2006. Reply comments are due on or before November 13, 2006. Written Paperwork Reduction Act (PRA) comments on the proposed information collection requirements should be submitted on or before November 13, 2006.

FOR FURTHER INFORMATION CONTACT: Thomas Chandler, Consumer & Governmental Affairs Bureau, Disability Rights Office at (202) 418-1475 (voice), (202) 418-0597 (TTY), or e-mail at Thomas.Chandler@fcc.gov.

Correction

In proposed rule FR Doc. E6-14901, beginning on pages 54009 and 54010 in the issue of September 13, 2006, make the following corrections:

1. On page 54009, in the 2nd column, correct the ADDRESSES section as follows:

ADDRESSES: You may submit comments, identified by [CG Docket number 03-123 and/or FCC Number 06-106], by any of the following methods:

• Federal eRulemaking Portal: http://www.regulations.gov. Follow the instructions for submitting comments.

• Federal Communications Commission's Web Site: http://www.fcc.gov/cgb/ecfs/. Follow the instructions for submitting comments.

• People with Disabilities: Contact the FCC to request reasonable accommodations (accessible format documents, sign language interpreters, CART, etc.) by e-mail: FCC504@fcc.gov or phone (202) 418-0539 or TTY: (202) 418-0432.

For detailed instructions for submitting comments and additional information on the rulemaking process, see the SUPPLEMENTARY INFORMATION section of this document. In addition, you may submit your PRA comments by e-mail or U.S. postal mail. To submit your comments by e-mail send them to PRA@fcc.gov, and to Allison E. Zaleski, OMB Desk Officer, Room 10236 NEOB, 725 17th Street, NW., Washington, DC 20503, or via the Internet to Allison_E._Zaleski@omb.eop.gov, or via fax at (202) 395-6466. To submit your comments by U.S. postal mail, mark it to the attention of Leslie F. Smith, Federal Communications Commission, 445 12th Street, SW., Room 1-C216, Washington, DC 20554.

2. On page 54010, in the 2nd and 3rd columns, where it reads Initial Paperwork Reduction Act of 1995 Analysis, correct as follows:

Initial Paperwork Reduction Act of 1995 Analysis

The 2006 Cost Recovery FNPRM contains proposed information collection requirements. The Commission, as part of its continuing effort to reduce paperwork burdens, invites the general public and the Office of Management and Budget (OMB) to comment on the information collection requirements contained in this document, as required by the PRA of 1995, Public Law 104-13. Public and agency comment are due November 27, 2006. Comments should address: (a) Whether the proposed collection of information is necessary for the proper performance of the functions of the Commission, including whether the information shall have practical utility; (b) the accuracy of the Commission's burden estimates; (c) ways to enhance the quality, utility, and clarity of the information collected; and (d) ways to minimize the burden of the collection of information on the respondents, including the use of automated collection techniques or other forms of information technology. In addition, pursuant to the Small Business Paperwork Relief Act of 2002, Public Law 107-198, see 44 U.S.C. 3506 (c)(4), the Commission seeks specific comment on how it may “further reduce the information collection burden for small business concerns with fewer than 25 employees.”

OMB Control Number: 3060-0463.

Title: Telecommunications Relay Services and Speech-to-Speech Services for Individuals with Hearing and Speech Disabilities, 2006 Cost Recovery Further Notice of Proposed Rulemaking, CG Docket No. 03-123, FCC 06-106.

Form Number: N/A.

Type of Review: Revision of currently approved collection.

Number of Respondents: 5,098.

Number of Responses: 5,285.

Respondents: Business and other for-profit entities; and State, Local or Tribal Government.

Estimated Time per response: 10 hours—1,000 hours.

Frequency of Response: Annual and on occasion reporting requirements; Recordkeeping; Third party disclosure.

Total Annual Hourly Burden: 37,757.

Total Annual Costs: $0.00.

Privacy Act Impact Assessment: No impact(s).

Needs and Uses: On December 21, 2001, the Commission released the 2001 TRS Cost Recovery MO&O & FNPRM, In the Matter of Telecommunications Relay Services for Individuals with Hearing and Speech Disabilities, Recommended TRS Cost Recovery Guideline, CC Docket No. 98-67, FCC 01-371. In the 2001 TRS Cost Recovery MO&O & FNPRM, the Commission directed the TRS administrator to continue applying the average per minute compensation methodology to develop traditional TRS compensation rates; required TRS providers to submit certain TRS-related costs and demand data to TRS Fund administrator; and directed the TRS administrator to expand the TRS Center Data Request, a form for providers to itemize their actual and projected cost and demand data, to include specific sections to capture STS and VRS costs and minutes of use.

On October 25, 2002, the Commission released the Fifth Report and Order on TRS, In the Matter of Telecommunications Services for Individuals with Hearing and Speech Disabilities, and the Americans with Disabilities Act of 1990, CC Docket Nos. 90-571 & 98-67, FCC 02-269. In the Fifth Report and Order on TRS, the Commission concluded that carriers need not provide coin sent-paid TRS calls from payphones because it was infeasible to provide coin sent-paid relay service through payphones at that time, and coin sent-paid functionality was not necessary to achieve functional equivalence. Further, in the Fifth Report and Order on TRS, the Commission required TRS providers to submit a one-time report to the Commission, detailing the steps taken to comply with the consumer education recommendations contained in the Fifth Report and Order on TRS. The submission of a one-time report has been completed, thus the TRS providers are no longer required to submit a report in compliance of the Fifth Report and Order on TRS.

On July 20, 2006, the Commission released a 2006 Cost Recovery FNPRM, In the Matter of Telecommunications Relay Services and Speech-to-Speech Services for Individuals with Hearing and Speech Disabilities, CG Docket No. 03-123, FCC 06-106. The Commission seeks comment on a broad range of issues concerning the compensation of providers of TRS from the Interstate TRS Fund (Fund). In the 2006 Cost Recovery FNPRM, the Commission seeks comment on: (1) Hamilton's proposed “MARS” plan and alternative cost recovery methodologies for traditional TRS, STS and Internet Protocol (IP) Relay, including any possible changes to the existing TRS Center Data Request form; (2) appropriate cost recovery methodology for VRS, including possible changes to the existing TRS Center Data Request form; and (3) the basis of “reasonable” costs of providing all forms of TRS that should be compensable under present cost recovery methodology, including marketing and outreach expenses, overhead costs and executive compensation. The 2006 Cost Recovery FNPRM proposes a reporting requirement that certified state TRS programs would be required to submit rate data to the Commission, either annually or for a multi-year period, for their respective intrastate traditional TRS and STS services.

Federal Communications Commission.
Marlene H. Dortch,
Secretary.

[FR Doc. 06-8180 Filed 9-26-06; 8:45 am]

BILLING CODE 6712-01-P